DEPARTMENT OF LABOR

Employment and Training Administration

Design of Federal YouthBuild Grants

AGENCY: Employment and Training Administration, Labor.

ACTION: Notice of request for public comments and announcement of public meetings.

SUMMARY: On September 22, 2006, President Bush signed into law the YouthBuild Transfer Act (Pub. L. 109-281) which transfers the YouthBuild program from the Department of Housing and Urban Development (HUD) to the Department of Labor (DOL). YouthBuild provides education and occupational skills training for at-risk youth age 16-24. The purpose of this Notice is to announce public meetings and a Webinar ¹ to discuss the transition of the YouthBuild program to DOL and to announce an open comment period for comments on a variety of issues about YouthBuild program design. The purposes of the public meetings and the Webinar are twofold: To provide basic information on the legislative changes to the YouthBuild program and DOL program management of YouthBuild; and to collect feedback on several program design elements listed below.

¹ A Webinar is an interactive seminar or meeting conducted over the Internet.

Key Dates: Submit comments on or before December 15, 2006.

The public meeting dates are:

1. November 30, 2006 from 8:30 a.m. to 4:30 p.m., Los Angeles, CA.

2. December 6, 2006 from 8:30 a.m. to 4:30 p.m., Pittsburgh, PA.

3. December 13, 2006 from 2 p.m. to 4 p.m. EST, a Webinar.

ADDRESSES: Submit your comments by e-mail to youth.build@dol.gov. Comments can also be mailed or hand delivered to the Employment and Training Administration, Office of Workforce Investment, Division of Youth Services, Room N-4511, 200 Constitution Avenue, NW., Washington, DC 20210. A summary of all comments received will be made available to the public on the Employment and Training Administration's Web site at http://www.doleta.gov.

The meeting locations are:

1. Los Angeles—Westin Bonaventure Hotel, 404 South Figueroa Street, Los Angeles, CA 90071.

2. Pittsburgh—Omni William Penn, 530 William Penn Place, Pittsburgh, PA 15219.

3. Webinar—For additional details on the Webinar, please visit http://www.workforce3one.org/.

FOR FURTHER INFORMATION CONTACT: Anne Stom via e-mail at stom.anne@dol.gov or via telephone at (202) 693-3377. This is not a toll free number.

SUPPLEMENTARY INFORMATION:

A. Meeting Information

A small block of hotel rooms for both of these events has been reserved under DOL YouthBuild. More information on these meetings can be found at http://www.doleta.gov/youth_services. These meetings are open to the public. However, attendees must register in advance at http://www.doleta.gov/youth_services.

B. Background

In 1978, YouthBuild began in East Harlem, NY, as a program to teach youth construction skills while renovating and building homes for low-income families. It was replicated in five locations in New York City during the 1980s. In 1990, YouthBuild USA was founded to implement YouthBuild nationally. In 1993, the YouthBuild program was established by federal statute and HUD was designated as the agency responsible for administering the program.

In addition to teaching construction skills to youth, YouthBuild is an alternative education program that assists youth who are often significantly behind in basic skills with obtaining a high school diploma or GED credential. The primary target populations for YouthBuild are youth offenders, youth in or aging out of foster care, and out-of-school youth. There are currently over 200 YouthBuild programs operating throughout the United States. YouthBuild grants administered by HUD have funded approximately 120 programs through annual competitions.

In 2003, the White House Task Force Report on Disadvantaged Youth recommended that the YouthBuild program be transferred from HUD to DOL for greater consistency of agency mission and other efficiencies. The federal departments agreed and enactment of the YouthBuild Transfer Act represents the successful implementation of that recommendation. DOL will run its first YouthBuild competition for funds appropriated for YouthBuild in Fiscal Year (FY) 2007. This grant competition represents the first funding cycle for which DOL assumes full responsibility of the YouthBuild program. Grants awarded prior to FY 2007 will continue to be administered by HUD until the authority to expend the funds has expired. The President's FY 2007 budget request for the YouthBuild program is $50 million.

In administering the YouthBuild program, DOL expects to: (1) Increase coordination between YouthBuild sites and the workforce investment system; (2) align the program with the Federal Shared Youth Vision ² which emphasizes strong educational and employment outcomes; and (3) promote the YouthBuild model for other youth programs. In order to ensure that programs are designed to reach these goals, DOL is seeking public input and observations on the YouthBuild program, particularly in the following areas:

² Information on the Federal Shared Youth Vision is available at http://www.doleta.gov/ryf/WhiteHouseReport/VMO.cfm.

1. Awards: As we consider the length and amount of YouthBuild awards, we are interested in comments and observations on the optimal length of an award (for example one-year grants v. multi-year funding), the optimal amount of an award, and the minimal amount of funding necessary to sustain a viable local program. As we consider the criteria to be applied to the selection of YouthBuild grantees, we are interested in comments and observations on the organizational attributes required for operating an effective YouthBuild program, including prior program experience.

2. Outcomes: We are interested in comments and observations on ways to ensure that YouthBuild programs meet educational and employment outcomes and on ways to measure those outcomes. Given the outcomes that YouthBuild programs will be required to meet as part of DOL's Common Measures for employment and training programs (gains in literacy and numeracy skills; successful placement in post-secondary education or employment; and diploma and industry recognized certificate attainment), we seek public input into the types of DOL technical assistance that will support programs in improving these educational and career track employment outcomes for YouthBuild participants, and in ways to strengthen the connections that YouthBuild programs make with apprenticeship programs, construction firms, and other high-growth, high-demand jobs. We are interested in comments and observations on methods to support increased placements of YouthBuild participants into apprenticeship programs, construction firms, and other high-growth, high-demand jobs.

3. Capacity Building: In the past, through the HUD Demonstration Act of 1993, HUD has awarded a separate set of YouthBuild grants for capacity building. We are interested in learning whether the capacity building grants awarded by HUD helped to strengthen YouthBuild programs. In addition, we are interested in comments and observations on ways that capacity building grants can be used to support shifting YouthBuild programs to diploma granting programs, or adding new career tracks in industries other than construction, and are interested in other ideas for uses of capacity building grants.

4. Other Comments: DOL welcomes comments and suggestions on improving any other aspects of the federal YouthBuild program.

Signed at Washington, DC, this 6th day of November, 2006.
Emily Stover DeRocco,
Assistant Secretary.

[FR Doc. E6-19177 Filed 11-13-06; 8:45 am]

BILLING CODE 4510-30-P